DEPARTMENT OF COMMERCE

International Trade Administration

Request for Applicants for the Appointment to the United States-India CEO Forum

AGENCY: International Trade Administration, Department of Commerce.

ACTION: Notice.

SUMMARY: In 2005, the Governments of the United States and India established the U.S.-India CEO Forum. This notice announces membership opportunities for appointment or reappointment as representatives to the U.S. Section of the Forum's private sector Committee.

DATES: Applications should be received no later than 30 days after publication of this Notice.

ADDRESSES: Please send requests for consideration to Valerie Dees, Noor Sclafani, and Jed Diemond at the Office of South Asia, U.S. Department of Commerce, either by email at valerie.dees@trade.gov, noor.sclafani@trade.gov, and jed.diemond@trade.gov or by mail to U.S. Department of Commerce, 1401 Constitution Avenue NW., Room 2310, Washington, DC 20230.

FOR FURTHER INFORMATION CONTACT: Valerie Dees, Director, Office of South Asia, U.S. Department of Commerce, telephone: (202) 482-0477.

SUPPLEMENTARY INFORMATION: The U.S.-India CEO Forum, consisting of both private and public sector members, brings together leaders of the respective business communities of the United States and India to discuss issues of mutual interest, particularly ways to strengthen the economic and commercial ties between the two countries, and to communicate their joint recommendations to the U.S. and Indian governments. The Forum will have U.S. and Indian co-chairs; the Secretary of Commerce and the Deputy National Security Advisor for International Economic Affairs will co-chair the Forum on the U.S. side. The Forum will include a Committee comprising private sector members. The Committee will be composed of two Sections, with the U.S. section consisting of up to 17 members from the private sector representing the views and interests of the private sector business community in the United States. Each government will appoint the members to its respective Section. The Committee will provide recommendations to the two governments and their senior officials that reflect private sector views, needs, and concerns about the creation of an environment in which their respective private sectors can partner, thrive, and enhance bilateral commercial ties to expand trade and economic links between the United States and India. The Committee will work in tandem with, and provide input to, the U.S.-India Strategic and Commercial Dialogue.

Candidates are currently being sought for membership on the U.S. Section of the Committee. Each candidate must be the Chief Executive Officer or President (or have a comparable level of responsibility) of a U.S.-owned or controlled company that is incorporated in and has its main headquarters located in the United States and is currently doing business in both India and the United States. Each candidate also must be a U.S. citizen or otherwise legally authorized to work in the United States and be able to travel to India and locations in the United States to attend official Forum meetings as well as U.S. Section meetings. In addition, the candidate may not be a registered foreign agent under the Foreign Agents Registration Act of 1938, as amended.

Evaluation of applications for membership in the U.S. Section by eligible individuals will be based on the following criteria:

• A demonstrated commitment by the individual's company to the Indian market either through exports or investment.

• A demonstrated strong interest in India and its economic development.

• The ability to offer a broad perspective and business experience to the discussions.

• The ability to address cross-cutting issues that affect the entire business community.

• The ability to initiate and be responsible for activities in which the Forum will be active.

• Prior work by the applicant on the U.S. Section of the Committee.

The evaluation of applications for membership in the U.S. Section will be undertaken by a committee of staff from multiple U.S. Government agencies. Members will be selected on the basis of who best will carry out the objectives of the Forum as stated in the first paragraph under Supplementary Information, above. The U.S. Section of the Committee should also include members who represent a diversity of business sectors and geographic locations. To the extent possible, Section members also should include representation from small, medium, and large firms.

U.S. Section members will receive no compensation for their participation in Forum-related activities. Individual members will be responsible for all travel and related expenses associated with their participation in the Forum, including attendance at Committee and Section meetings. It is anticipated that the next Forum meeting will be held later in 2015. The U.S. and Indian Sections should be prepared to work together ahead of that time to prepare recommendations to the U.S. and Indian governments. Only appointed members may participate in official Forum meetings; substitutes and alternates will not be designated. U.S. Section members will normally serve for two-year terms but may be reappointed. In the event of a vacancy after members of the U.S. Section are appointed, candidates not previously selected may be considered to fill the vacancy based on material submitted in response to this notice.

To be considered for membership in the U.S. Section, please submit the following information as instructed in the ADDRESSES and DATES captions above: Name and title of the individual requesting consideration; name and address of company's headquarters; location of incorporation; size of the company; size of company's export trade, investment, and nature of operations or interest in India; and a brief statement of why the candidate should be considered, including information about the candidate's ability to initiate and be responsible for activities in which the Forum will be active. Candidates that have previously been members of the U.S. Section need only provide a letter expressing their interest in re-applying and indicating any changes to the application materials previously supplied. All candidates will be notified of whether they have been selected.

Dated: April 7, 2015.
Valerie Dees,
Director of the Office of South Asia.

[FR Doc. 2015-08304 Filed 4-9-15; 8:45 am]

BILLING CODE 3510-HE-P